DEPARTMENT OF HOMELAND SECURITY

Federal Emergency Management Agency

44 CFR Part 67

[ Docket No. FEMA-B-7742 & FEMA-D-7828]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 30, 2008.

ADDRESSES: The corresponding preliminary Flood Insurance Rate Map (FIRM) for the proposed BFEs for each community are available for inspection at the community's map repository. The respective addresses are listed in the table below.

You may submit comments, identified by Docket No. FEMA-B-7742, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Riverside County, California and Incorporated Areas
Colorado River | At the downstream corporate limits of Riverside County | None | + 244 | Colorado River Indian Tribe, Unincorporated Areas of Riverside County.
| At the upstream corporate limits of Riverside County | None | + 338
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
Colorado River Indian Tribe
Maps are available for inspection at the Colorado River Indian Tribal Offices, 26600 Mohave Road, Parker, Arizona.
Unincorporated Areas of Riverside County
Maps are available for inspection at the Riverside County Flood Control District Office, 1995 Market Street, Riverside, California.
San Bernardino County, California and Incorporated Areas
Colorado River | At the downstream corporate limits of San Bernardino County | None | + 338 | City of Needles, Colorado River Indian Tribe, Fort Mojave Indian Tribe, Unincorporated Areas of San Bernardino.
| At the upstream corporate limits of San Bernardino County | None | + 485
Hooke Creek | At confluence with Fern Canyon | None | + 4,877 | Unincorporated Areas of San Bernardino County.
| Approximately 500 feet upstream of Hooke Road | None | + 5,238
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
City of Needles
Maps are available for inspection at the Needles City Hall, 817 Third Street, Needles, California.
Colorado River Indian Tribe
Maps are available for inspection at the Colorado River Indian Tribal Offices, 26600 Mohave Road, Parker, Arizona.
Fort Mojave Indian Tribe
Maps are available for inspection at the Mohave Indian Tribal Offices, 500 Merriman Avenue, Needles, California.
Unincorporated Areas of San Bernardino County
Maps are available for inspection at the San Bernardino County Public Works Department, 825 East Third Street, San Bernardino, California.
Monroe County, New York, and Incorporated Areas
East Branch | At Northbridge Road | + 379 | + 380 | Town of Greece.
Larkin Creek | Approximately 1,440 feet upstream of St. Andrews Dam | None | +456
East Branch Red Creek | At confluence with Middle Branch Red Creek | +525 | +523 | Town of Henrietta.
| Approximately 2,400 feet upstream of Erie Station Road | +570 | +572
East Branch Round Pond Creek | At Ridgeway Road | +474 | +472 | Town of Greece.
| Approximately 2,900 feet upstream of Long Pond Road | +511 | +515
East Branch Shipbuilders Creek | At Railroad | +321 | +328 | Town of Webster.
| Approximately 1,800 feet upstream of Dirt Track | +426 | +430
East Branch Tributary Red Creek | At confluence with East Branch Red Creek | +529 | +530 | Town of Henrietta.
| Approximately 150 feet upstream of East Henrietta Road | +575 | +574
East Stem Middle Branch Red Creek | At confluence with Middle Branch Red Creek and West Stem Middle Branch Red Creek | +525 | +524 | Town of Henrietta.
| Approximately 150 feet upstream of Erie Station Road | +579 | +578
Irondequoit Creek Reach 1 | Approximately 387 feet downstream of Linden Avenue | None | +357 | Village of East Rochester, Town of Perinton.
| Approximately 1,600 feet upstream of Ontario Street | None | +380
Larkin Creek | At approximately 20 feet upstream of Lake Ontario State Parkway | +253 | +255 | Town of Greece, Town of Ogden.
| Approximately 430 feet upstream of Black Forest Drive in Town of Ogden | None | +464
Middle Branch Red Creek | At confluence with Red Creek and East Branch Red Creek | +525 | +523 | Town of Henrietta.
| At confluence with East and West Stem Middle Branch Red Creek | +525 | +524
Northrup Creek | At Flynn Road | +250 | +249 | Town of Greece, Town of Ogden, Town of Parma, Village of Spencerport.
| Approximately 612 feet upstream of Wood Duck Run | None | +593
Red Creek | At confluence with Erie Canal | +517 | +514 | Town of Henrietta, City of Rochester, Town of Brighton.
| At confluence with Middle and East Branch Red Creek | +525 | +523
Round Pond Creek Reach 1 | At Island Cottage Road | +256 | +257 | Town of Greece.
| Approximately 4,400 feet downstream of Flood Control Dam | +459 | +461
South Stem East Branch Tributary Red Creek | At confluence with East Branch Tributary Red Creek | +554 | +553 | Town of Henrietta.
| Approximately 42 feet upstream of East Henrietta Road | +575 | +582
West Branch Red Creek | At confluence with Red Creek | +520 | +518 | City of Rochester, Town of Brighton.
| At Bridge to Park Dump | +520 | +519
West Stem Middle Branch Red Creek | At confluence with Middle Branch Red Creek and East Stem Middle Branch Red Creek | +525 | +524 | Town of Henrietta.
| Approximately 270 feet upstream of Erie Station Road | +560 | +563
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Rochester
Maps are available for inspection at Rochester City Hall, 30 Church Street, Rochester, NY.
Town of Brighton
Maps are available for inspection at Brighton Town Hall, 2300 Elmwood Avenue, Rochester, NY.
Town of Greece
Maps are available for inspection at Greece Town Hall, 1 Vince Tofany Boulevard, Greece, NY.
Town of Henrietta
Maps are available for inspection at Henrietta Town Hall, 475 Calkins Road, Henrietta, NY.
Town of Ogden
Maps are available for inspection at Ogden Town Hall, 269 Ogden Center Road, Spencerport, NY.
Town of Parma
Maps are available for inspection at Parma Town Hall, 1300 Hilton-Parma Corners Road, Hilton, NY.
Town of Perinton
Maps are available for inspection at Perinton Town Hall, 1350 Turk Hill Road, Fairport, NY.
Town of Webster
Maps are available for inspection at Webster Town Hall, 1000 Ridge Road, Webster, NY.
Village of East Rochester
Maps are available for inspection at East Rochester Village Hall, 120 West Commercial Street, East Rochester, NY.
Village of Spencerport
Maps are available for inspection at Spencerport Village Building Department, 269 Ogden Center Road, Spencerport, NY.
Carroll County, Virginia, and Incorporated Areas
Chestnut Creek | Approximately 2450 feet downstream of Cliffview Road | None | +2298 | Unincorporated Areas of Carroll County.
| Approximately 7500 feet upstream of Cliffview Road | None | +2332
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Carroll County
Maps are available for inspection at Building Officials Office, 605-1 Pine Street, Hillsville, VA 24343.
Grayson County, Virginia, and Incorporated Areas
Chestnut Creek | Near Sewage Treatment Plant, just upstream of County Boundary | None | +2332 | Unincorporated Areas of Grayson County.
| Near Sewage Treatment Plant, approximately 375 feet downstream of old Railroad Bridge | None | +2335
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Grayson County
Maps are available for inspection at County Administrators Office, 129 Davis Street, Independence, VA 24348.
None County, Virginia, and Incorporated Areas
Chestnut Creek | Just upstream of Cliffview Road | None | +2308 | City of Galax.
| Approximately 7500 feet upstream of Cliffview Road | None | +2332 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Galax
Maps are available for inspection at Galax Municipal Building, 111 East Grayson Street, Galax, VA 24333.

(Catalog of Federal Domestic Assistance No. 97.022, “Flood Insurance.”)

Dated: October 24, 2007.
David I. Maurstad,
Federal Insurance Administrator of the National Flood Insurance Program, Department of Homeland Security, Federal Emergency Management Agency.

[FR Doc. E7-21540 Filed 10-31-07; 8:45 am]

BILLING CODE 9110-12-P